DEPARTMENT OF DEFENSE

Department of Navy

[No. USN-2006-0063]

Proposed Collection; Comment Request

AGENCY: Marine Corps Recruiting Command, Marine Corps Base Quantico, DoD.

ACTION: Notice.

The U.S. Marine Corps announces a proposed extension of a public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by January 26, 2006.

ADDRESSES: You may submit comments, identified by docket number and title, by any of the following methods:

• Federal eRulemaking Portal: http://www.regulations.gov. Follow the instructions for submitting comments.

• Mail: Federal Docket Management System Office, 1160 Defense Pentagon, Washington, DC 20301-1160.

Instructions: All submissions received must include the agency name, docket number and title for this Federal Register document. The general policy for comments and other submissions from members of the public is to make these submissions available for public viewing on the Internet at http://www.regulations. gov as they are received without change, including any personal identifiers or contact information.

FOR FURTHER INFORMATION CONTACT: To request more information on this proposed information collection or to obtain a copy of the proposal and associated collection instruments, write to Marine Corps Recruiting Command (Code G3 OR), 3280 Russell Road, Quantico, VA 22134-5103, or contact Ms. Carla V. Offer at (703) 784-9450.

Title and OMB number: Personal Information Questionnaire; OMB Number 0703-0012.

Needs and Uses: The information collection requirement is used to provide Headquarters, U.S. Marine Corps with a standardized method in rating officer program applicants in the areas of character, leadership, ability, and suitability for a service as a commissioned officer.

Affected Public: Individuals or households.

Annual Burden Hours: 4,175.

Number of Respondents: 16,700.

Responses Per Respondent: 1.

Average Burden Per Response: 15 Minutes.

Frequency: On occasion.

SUPPLEMENTARY INFORMATION:

Summary of Collection

The Personal Information Questionnaire is used to provide Headquarters, U.S. Marine Corps with a standardized method in rating officer program applicants in the areas of character, leadership, ability, and suitability for a service as a commissioned officer.

Dated: November 17, 2006.
Patricia L. Toppings,
Alternate OSD Federal Register, Liaison Officer, Department of Defense.

[FR Doc. 06-9400 Filed 11-24-06; 8:45am]

BILLING CODE 5001-06-M